NUCLEAR REGULATORY COMMISSION

Advisory Committee on Reactor Safeguards; Meeting of the ACRS Subcommittee on Regulatory Policies and Practices; Amendment to December 1, 2009, ACRS meeting Federal Register Notice

The Federal Register Notice for the ACRS Subcommittee Meeting on Regulatory Policies and Practices scheduled to be held on December 1, 2009, is being amended to notify the following:

The time of the meeting is being changed from 2:30 p.m.-4:30 p.m., to 8:30 a.m.-12 p.m. In addition to the review of the Draft Final Revision 1 to Regulatory Guide 1.151 (DG-1178), the Subcommittee will also review the Draft Final Revision 1 to Regulatory Guide 1.141 (DG-1213), “Containment Isolation Provisions for Fluid Systems.”

The notice of this meeting was previously published in the Federal Register on Tuesday, November 10, 2009, [74 FR 58064]. All other items remain the same as previously published.

Further information regarding this meeting can be obtained by contacting Zena Abdullahi, Designated Federal Official (Telephone: 301-415-8716, E-mail: Zena.Abdullahi@nrc.gov), between 8:45 a.m. and 5:30 p.m. (ET).

Dated: November 18, 2009.
Antonio F. Dias,
Chief, Reactor Safety Branch B, Advisory Committee on Reactor Safeguards.

[FR Doc. E9-28244 Filed 11-24-09; 8:45 am]

BILLING CODE 7590-01-P